DEPARTMENT OF AGRICULTURE

Forest Service

Shawnee National Forest, Illinois: Hiker/Equestrian Trails Designation Project (Phase 1)

AGENCY: Forest Service, USDA.

ACTION: Notice of intent to prepare an environmental impact statement.

SUMMARY: The USDA Forest Service Shawnee National Forest intends to prepare an environmental impact statement to disclose the environmental consequences of designating additional miles of National Forest hiker/equestrian system trails within four watersheds on the Forest—Lusk Creek, Upper Bay Creek, Eagle Creek, and Big Grand Pierre Creek—and restricting equestrian use within these watersheds to the system trails.

DATES: Comments concerning the scope of the analysis must be received by January 30, 2004. The draft environmental impact statement is expected to be published in May, 2004 and the final environmental impact statement is expected in September, 2004.

ADDRESSES: Send written comments to Matt Lechner, NEPA Coordinator, Attention: Trails Designation, Shawnee National Forest, 50 Highway 145 South, Harrisburg, IL 62946. Send comments electronically to: mailroom_r9_shawnee@fs.fed.us; indicate “Trail Designation” on the subject line.

FOR FURTHER INFORMATION CONTACT: Tim Pohlman, Recreation Program Manager, or Richard Blume-Weaver, Planning Staff Officer, at (618) 253-7114, 1-800-MYWOODS, or e-mail tpohlman@fs.fed.us with a copy to rblume-weaver@fs.fed.us.

Maps of the trails proposed for designation are available for review at the Forest Supervisor's Office, 50 Highway 145 South, Harrisburg, Illinois; the Vienna-Elizabethtown Ranger District Station, 602 N. 1st St., Vienna, and the Elizabethtown Work Center, Elizabethtown, Illinois; the Jonesboro-Murphysboro Ranger District Station, 521 N. Main St., Jonesboro, and the Murphysboro Work Center, 2221 Walnut, Murphysboro, Illinois; the public libraries in Benton, Carbondale, Golconda, Harrisburg, Jonesboro, Marion, Metropolis, Murphysboro, Shawneetown, and West Frankfort; and the Southern Illinois University Library, Carbondale. Maps and other information are also available for review on the Shawnee National Forest's Web site: http://www.fs.fed.us/r9/shawnee. Click on “Trail Designation Project” under “Current Management News.”

SUPPLEMENTARY INFORMATION:

Purpose and Need for Action

The Shawnee National Forest's 1992 Amended Land and Resource Management Plan (Forest Plan) anticipated an increasing demand for trails on the Forest. In addition to identifying a potential trail-corridor system, the Forest Plan allowed equestrians the use of then-existing user-developed trails and the freedom to ride cross-country in most areas of the Forest. In the years since publication of the Forest Plan, public demand for trails has grown without any additions to the Forest's designated trail system. The existing designated trail system does not adequately meet the need for public access to many scenic attractions, nor does it provide equestrians a loop-trail experience. Numerous user-developed trails have been formed outside of the designated trail system; but agency policy prevents the Forest from managing these trails with trail-maintenance funds.

The Shawnee National Forest is ready at this time for a decision on the designation of additional system trails in order to provide recreational users a longer, well-marked, well-maintained trail system and to reduce resource damage from non-designated, unmanaged, user-developed trails. Since the majority of equestrian use occurs in four neighboring watersheds that contain many popular attractions—about 30 percent of the Forest—the first phase of trail designation is focused in these watersheds. The Forest Service intends to conduct further analyses in the remainder of the Forest following implementation of the decision that results from this environmental impact statement.

Proposed Action

The Shawnee National Forest proposes to: (1) Identify a number of miles of trail to add to the Forest's designated trail system within the watersheds of Lusk Creek, Upper Bay Creek, Big Grande Pierre Creek and Eagle Creek, with the additional miles drawn primarily from existing user-developed trails reconstructed and relocated as necessary to avoid resource impacts; (2) construct additional trailheads to provide access to the trail system; (3) amend the Forest Plan to restrict equestrian use in these four watersheds to system trails and roads; and (4) amend as required the trail-density standards in the Forest Plan.

Possible Alternatives

Possible alternatives for evaluation in the environmental impact statement include taking no action, designating trails in the four watersheds within the constraints of the Forest Plan's trail-density standards, and designating all trail-routes identified during a series of public workshops on the trails master-planning process.

Responsible Official: Allen Nicholas, Forest Supervisor, Shawnee National Forest, 50 Highway 145 South, Harrisburg, IL 62946.

Nature of Decision To Be Made

The responsible official will decide whether or not to designate more trails on the Shawnee National Forest, whether or not to construct additional trailheads, whether or not to amend the Forest Plan to restrict equestrian use in the four watersheds to designated trails and roads, and whether or not to amend the trail-density standards specified in the Forest Plan.

Scoping Process

The Shawnee National Forest proposes to scope for information by contacting persons and organizations on the Forest's mailing list and publishing a notice in the newspaper of record. The Forest will accept comments at the above-stated addresses on the scope of the proposed action and alternatives until January 30, 2004.

Two informational public open houses will be held to answer questions regarding the proposed action and to receive scoping comments. The first will be 4 p.m. to 7 p.m. on Tuesday, January 20, 2004 in the Knights of Columbus Hall, 100 Columbus Drive, Marion, Illinois (next to the church on the west side of Russell Street, three blocks south of U.S. Highway 13), and the second will be 4 p.m. to 7 p.m. on Wednesday, January 21, 2004 in the Commons Area of the Vienna High School, 601 N. 1st Street, Vienna, Illinois (across the street from the Vienna Ranger Station).

Preliminary Issues

The Forest Service has identified from previous public comments several preliminary issues related to the proposed action: (1) Designation and construction and/or improvement of additional system trails may cause increased erosion and soil compaction and adversely affect water quality; (2) Increasing trail-density standards may adversely affect wilderness and natural area attributes; (3) Use of additional trails may exceed the physical carrying-capacity of the affected watersheds; and (4) Designation of additional system trails may not provide quality recreational experiences.

Comments Requested

This notice of intent initiates the scoping process that guides the development of the environmental impact statement. In order to ensure adequate identification and discussion in the environmental impact statement of all relevant issues and alternatives, the Forest Service seeks comments related specifically to the proposed action and alternatives. We are especially interested in information that might identify a specific undesired result of implementing the proposed action. Comments received in response to this solicitation, including names and addresses of those who comment, will be considered part of the public record on this proposed action and will be available for public inspection. Comments submitted anonymously will be accepted and considered; however, those who submit anonymous comments will not have the right to appeal subsequent decisions under 36 CFR parts 215 and 217.

Those who comment during the scoping period will be listed to receive a copy of the draft environmental impact statement. In order to conserve resources, the Shawnee National Forest encourages all recipients to view and/or download the draft environmental impact statement from the Shawnee National Forest Web site or accept a copy of the document on a CD. If you are unable to utilize the Web site or a CD, please specify in your comment submittal that you prefer to receive a paper copy of the draft environmental impact statement.

Additionally, pursuant to 7 CFR 1.27(d), any persons may request the agency to withhold a submission from the public record by showing how the Freedom of Information Act (FOIA) permits such confidentiality. Persons requesting such confidentiality should be aware that under FOIA confidentiality may be granted in only very limited circumstances, such as to protect trade secrets. The Forest Service will inform the requester of the agency's decision regarding the request for confidentiality and, should the request be denied, return the submission and notify the requester that the comments may be resubmitted with or without name and address within 90 days.

Early Notice of Importance of Public Participation in Subsequent Environmental Review

A draft environmental impact statement will be prepared for comment. The comment period on the draft environmental impact statement will be 45 days from the date the Environmental Protection Agency publishes the notice of availability in the Federal Register.

The Forest Service believes, at this early stage, that it is important to give reviewers notice of several court rulings related to public participation in the environmental review process. First, reviewers of draft environmental impact statement must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. [City of Angoon v. Hodel, 803 F.2d 1016,1 022 (9th Cir. 1986) and Wisconsin Heritages, Inc. v. Harris, 490 F. Supp. 1334, 1338 (E.D. Wis. 1980)] Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Policy Act at 40 CFR 1503.3 in addressing these points.

Comments received, including the name and addresses of those who comment, will be considered part of the public record on this proposal and will be available for public inspection.

(Authority: 40 CFR 1501.7 and 1508.22; Forest Service Handbook 1909.15, section 21)

Dated: December 2, 2003.
Huston A. Nicholas,
Forest Supervisor.

[FR Doc. 03-30439 Filed 12-8-03; 8:45 am]

BILLING CODE CMTL-08-M